DEPARTMENT OF THE INTERIOR

National Park Service

[NPS-NRSS-GRD-NPS0032952; MO# 4311H2; OMB Control Number 1024-0064]

Agency Information Collection Activities; Mining and Mining Claims and Non-Federal Oil and Gas Rights

AGENCY: National Park Service, Interior.

ACTION: Notice of information collection; request for comment.

SUMMARY: In accordance with the Paperwork Reduction Act of 1995, we, the National Park Service (NPS) are proposing to renew an information collection.

DATES: Interested persons are invited to submit comments on or before March 14, 2022.

ADDRESSES: Send written comments on this information collection request (ICR) to Phadrea Ponds, NPS Information Collection Clearance Officer, National Park Service, 12201 Sunrise Valley Drive, (MS-242) Reston, VA 20192; or by email to phadrea_ponds@nps.gov. Please reference OMB Control Number 1024-0064 in the subject line of your comments.

FOR FURTHER INFORMATION CONTACT: To request additional information about this ICR, contact Stephen Simon, Policy and Regulatory Specialist, Energy and Minerals Branch, Geologic Resources Division, National Park Service, P.O. Box 25287, Lakewood, Colorado 80225; by email at Stephen_Simon@nps.gov or by telephone at (303) 969-2015. Individuals who are hearing or speech impaired may call theFederalRelay Service at 1-800-877-8339 for TTY assistance.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Organic Act of 1916 (NPS Organic Act) (54 U.S.C. 100101) authorizes the Secretary of the Interior to develop regulations for units of the national park system (System units) under the Department's jurisdiction. The Mining in the Parks Act (54 U.S.C. 100731 et seq.) directs the Secretary of the Interior to regulate all operations in System units in connection with the exercise of mineral rights on patented and unpatented mining claims.

The regulations codified in 36 CFR part 9, subparts A and B, ensure that mining and non-Federal oil and gas activities in System units are conducted in a manner consistent with conserving each System unit for the benefit of present and future generations. The information required by subpart A identifies the claim, claimant, and operator (the claimant and operator are often the same) and details how the operator intends to access and develop the minerals associated with the claim. It also identifies the steps the operator intends to take to minimize any adverse impacts of the mining operations on park resource and values. No information, except claim ownership information, is submitted unless the claimant wishes to conduct mining operations. The information required by subpart B identifies the owner and operator (the owner and operator are often the same) and details how the operator intends to access and develop the oil and gas rights. It also identifies the steps the operator intends to take to minimize any adverse impacts on park resources and values. No information is submitted unless the owner wishes to conduct oil and gas operations. The information collected is used to evaluate proposed operations, ensure that all necessary mitigation measures are employed to protect park resources and values, and ensure compliance with all applicable laws and regulations.

Title of Collection: Mining and Mining Claims and Non-Federal Oil and Gas Rights, 36 CFR part 9, subparts A and B.

OMB Control Number: 1024-0064.

Form Number: None.

Type of Review: Extension of a currently approved collection.

Respondents/Affected Public: Businesses.

Respondent's Obligation: Required to obtain or retain a benefit.

Frequency of Collection: On occasion.

Total Estimated Annual Nonhour Burden Cost: None.

Activity/requirement | Estimated number of annual responses | Completion time per response (hours) | Estimated total annual burden hours
ICs Currently Approved Under 1024-0064
Mining and Mining Claims | 1 | 176 | 176
Non-Federal Oil and Gas Rights | 20 | 176 | 3,520
Previously Exempt Operations (§§ 9.50-9.53) | 106 | 10 | 1,060
Application for Temporary Access Permit (§§ 9.60-9.63) | 5 | 15 | 75
Extension of Temporary Access Permit | 1 | 1 | 1
Accessing Oil and Gas Rights from a Surface Location Outside the Park Boundary—Application for Exemption (§§ 9.70-9.73) | 3 | 80 | 240
Accessing Oil and Gas Rights from a Surface Location Outside the Park Boundary—Notice of change (§§ 9.70-9.73) | 1 | 2 | 2
Operations Permit (New Operations)
Application-(§§ 9.80—9.90) | 5 | 140 | 700
Operating Standards-Simulation Operations (§ 9.118(b))
Demonstrate mechanical integrity | 5 | 4 | 20
Record treating pressures and all annular pressures | 5 | 4 | 20
Notify Superintendent if mechanical integrity is lost | 1 | 1 | 1
Report of accident | 2 | 1 | 2
Operating Standards-Production (§ 9.118(c))
Document maintenance of mechanical integrity | 534 | 2 | 1,068
Signage to identify wells | 5 | 4 | 20
General Terms and Conditions (§§ 9.120-9.122)
Affidavit that proposed operations are in compliance with all laws and that information submitted to NPS is accurate | 111 | 1 | 111
Third-Party Monitor Report | 60 | 17 | 1,020
Notification—Accidents involving Serious Personal Injuries/Death and Fires/Spills | 2 | 1 | 2
Written Report—Accidents Involving Serious Injuries/Deaths and Fires/Spills | 2 | 16 | 32
Notification—Discovery of any cultural or scientific resources | 1 | 1 | 1
Report—Verify Compliance with Permits | 534 | 4 | 2,136
Reporting for Hydraulic Fracturing | 1 | 2 | 2
Financial Assurance (§§ 9.140-9.144) | 5 | 1 | 5
Modification to an Operation (§ 9.150) | 1 | 16 | 16
Change of Operator (§§ 9.160-9.161) | 5 | 8 | 40
Well Plugging (§§ 9.170-9.171) | 33 | 14 | 462
Reconsideration and Appeals (§§ 9.190-9.194) | 1 | 16 | 16
Public Participation (§ 9.200) | 1 | 4 | 4
Total | 1,451 |  | 10,752

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-00417 Filed 1-11-22; 8:45 am]

BILLING CODE 4312-52-P